DEPARTMENT OF COMMERCE

International Trade Administration

Department of Commerce, National Institute of Standards and Technology, et al.

Notice of Consolidated Decision on Applications for Duty-Free Entry of Electron Microscopes

This is a decision consolidated pursuant to Section 6(c) of the Educational, Scientific, and Cultural Materials Importation Act of 1966 (Pub. L. 89-651, as amended by Pub. L. 106-36; 80 Stat. 897; 15 CFR part 301). Related records can be viewed between 8:30 A.M. and 5:00 P.M. in Room 2104, U.S. Department of Commerce, 14th and Constitution Avenue., NW, Washington, D.C.

Docket Number: 07-014. Applicant: U.S. Department of Commerce, National Institute of Standards and Technology, Gaithersburg, MD 20899. Instrument: Electron Microscope, Model Quanta Series. Manufacturer: FEI Company, The Netherlands. Intended Use: See notice at 72 FR 20504, April 25, 2007. Order date: September 16, 2006.

Docket Number: 07-015. Applicant: VA Puget Sound Health Care System, Seattle, WA 98108. Instrument: Electron Microscope, Model JEM -1011. Manufacturer: JEOL, Ltd., Japan. Intended Use: See notice at 72 FR 20504, April 25, 2007. Order Date: September 13, 2006.

Docket Number: 07-018. Applicant: Virginia Polytechnic Institute and State University, Institute for Critical Technology and Applied Science, Blacksburg, VA 24061. Instrument: Electron Microscope, Model Quanta 600 FEG. Manufacturer: FEI Company, Brno, Czech Republic. Intended Use: See notice at 72 FR 20504, April 25, 2007. Order Date: December 13, 2006.

Docket Number: 07-019. Applicant: University of Utah, Department of Ophthalmology & Visual Sciences, John A. Moran Eye Center, Salt Lake City, UT 84132. Instrument: Electron Microscope, Model JEM -1400. Manufacturer: JEOL Ltd., Japan. Intended Use: See notice at 72 FR 20504, April 25, 2007. Order Date: November 15, 2006.

Docket Number: 07-020. Applicant: University of Rhode Island, Department of Chemical Engineering, Kingston, RI 02881. Instrument: Electron Microscope, Model JEM - 2100. Manufacturer: JEOL, Ltd., Japan. Intended Use: See notice at 72 FR 20504, April 25, 2007. Order Date: September 21, 2006.

Docket Number: 07-021. Applicant: The University of Texas at Austin, Purchasing Office, Austin, TX 78722. Instrument: Electron Microscope, Model JEM -1400. Manufacturer: JEOL Ltd., Japan. Intended Use: See notice at 72 FR 20504, April 25, 2007. Order Date: December 4, 2006.

Docket Number: 07-022. Applicant: Duke University, Durham, NC 27708-0271. Instrument: Electron Microscope. Manufacturer: FEI Company, The Netherlands. Intended Use: See notice at 72 FR 20504, April 25, 2007. Order Date: December 21, 2006.

Comments: None received. Decision: Approved. No instrument of equivalent scientific value to the foreign instrument, for such purposes as these instruments are intended to be used, was being manufactured in the United States at the time the instruments were ordered. Reasons: Each foreign instrument is an electron microscope and is intended for research or scientific educational uses requiring an electron microscope. We know of no electron microscope, or any other instrument suited to these purposes, which was being manufactured in the United States at the time of order of each instrument.

Faye Robinson,
Director, Statutory Import Programs Staff.

[FR Doc. E7-9927 Filed 5-22-07; 8:45 am]

BILLING CODE 3510-DS-P